DEPARTMENT OF HEALTH AND HUMAN SERVICES

Community Partnerships To Eliminate Health Disparities Demonstration Grant Program

AGENCY: Department of Health and Human Services, Office of the Secretary, Office of Public Health and Science, Office of Minority Health.

ACTION: Notice.

Announcement Type: Competitive Initial Announcement of Availability of Funds.

Catalog of Federal Domestic Assistance Number: Community Partnerships to Eliminate Health Disparities Demonstration Grant Program—93.137.

DATES: To receive consideration, applications must be received by the Office of Grants Management, Office of Public Health and Science (OPHS), Department of Health and Human Services (DHHS) c/o WilDon Solutions, Office of Grants Management Operations Center, Attention Office of Minority Health Community Partnerships to Eliminate Health Disparities Demonstration Grant Program, no later than 5 p.m. Eastern Time on July 11, 2007. The application due date requirement in this announcement supersedes the instructions in the OPHS-1 form.

ADDRESSES: Application kits may be obtained electronically by accessing Grants.gov at http://www.grants.gov or GrantSolutions at http://www.GrantSolutions.gov. To obtain a hard copy of the application kit, contact WilDon Solutions at 1-888-203-6161. Applicants may fax a written request to WilDon Solutions at (703) 351-1138 or e-mail the request to OPHSgrantinfo@teamwildon.com. Applications must be prepared using Form OPHS-1 “Grant Application,” which is included in the application kit.

FOR FURTHER INFORMATION CONTACT: WilDon Solutions, Office of Grants Management Operations Center, 1515 Wilson Blvd., Third Floor Suite 310, Arlington, VA 22209 at 1-888-203-6161, at e-mail OPHSgrantinfo@teamwildon.com, or fax 703-351-1138.

SUMMARY: This announcement is made by the United States Department of Health and Human Services (HHS or Department), Office of Minority Health (OMH) located within the Office of Public Health and Science (OPHS), and working in a “One-Department” approach collaboratively with participating HHS agencies and programs (entities). As part of a continuing HHS effort to improve the health and well being of racial and ethnic minorities, the Department announces availability of FY 2007 funding for the Community Partnerships to Eliminate Health Disparities Demonstration Grant Program (hereafter referred to as the Community Partnerships Program). OMH is authorized to conduct this program under 42 U.S.C. 300u-6, section 1707 of the Public Health Service Act, as amended. The mission of the OMH is to improve the health of racial and ethnic minority populations through the development of policies and programs that address disparities and gaps. OMH serves as the focal point in the HHS for leadership, policy development and coordination, service demonstrations, information exchange, coalition and partnership building, and related efforts to address the health needs of racial and ethnic minorities. OMH activities are implemented in an effort to address Healthy People 2010, a comprehensive set of disease prevention and health promotion objectives for the Nation to achieve over the first decade of the 21st century (http://www.healthypeople.gov). This funding announcement is also made in support of the OMH National Partnership for Action initiative. The mission of the National Partnership for Action is to work with individuals and organizations across the country to create a Nation free of health disparities with quality health outcomes for all by achieving the following five objectives: increasing awareness of health disparities; strengthening leadership at all levels for addressing health disparities; enhancing patient-provider communication; improving cultural and linguistic competency in delivering health services; and better coordinating and utilizing research and outcome evaluations.

The Community Partnerships Program is designed to support activities that address, and will subsequently eliminate, racial and ethnic health disparities through community-level activities that promote health, reduce risks, and increase access to and utilization of preventive health care and treatment services. In FY 2007 the Community Partnerships Program will support community-based programs that implement activities through collaborative arrangements among minority serving community-based organizations, health care facilities, and other community entities. This program is intended to ascertain the effectiveness of collaborative community-based interventions, implemented at the grassroots level, on reducing health disparities among racial and ethnic minority populations, and demonstrate the effectiveness of the collaborative partnership approach in:

• Developing, implementing and conducting demonstration projects in high-risk minority communities which coordinate integrated community-based educational screening and outreach services, and include linkages for access, and treatment to minorities in high-risk, low-income communities;

• Reducing social cultural and linguistic barriers to health care; and

• Implementing and/or adapting existing promising practices/model programs for targeted minority communities.

The gap in life expectancy between Black and white Americans has narrowed since 1985, but significant racial and ethnic disparities remain across a wide range of health measures.¹ The 2005 National Healthcare Disparities Report found that disparities related to race, ethnicity and socioeconomic status continue to pervade the American health care system.² The report also states that since the causes of disparities and their prioritization vary across the country, “successfully addressing disparities often requires focused community-based projects that are supported by detailed local data.” Eliminating the disproportionate health care disparities is an HHS priority, and the second goal of Healthy People 2010. The risk of many diseases and health conditions are reduced through preventative actions. A culture of wellness diminishes debilitating and costly health problems. Individual health care is built on a foundation of responsibility for personal wellness, which includes participating in regular physical activity, eating a healthful diet, taking advantage of medical screenings, and making healthy choices to avoid risky behaviors. Background information on health issue areas in which significant racial/ethnic disparities are documented may be found in Section VIII of this announcement.

¹ Health, United States, 2006, National Center for Health Statistics (NCHS), Hyattsville, MD, November 2006.

² National Healthcare Disparities Report, U.S. Department of Health and Human Services, Agency for Health Care Research and Quality (AHRQ), Rockville, MD, December 2005.

SUPPLEMENTARY INFORMATION:

Table of Contents

Section I. Funding Opportunity Description

1. Purpose

2. OMH Expectations

3. Applicant Project Results

4. Project Requirements

5. Health Areas To Be Addressed

Section II. Award Information

Section III. Eligibility Information

1. Eligible Applicants

2. Cost Sharing or Matching

3. Other

Section IV. Application and Submission Information

1. Address To Request Application Kit

2. Content and Form of Application Submission

3. Submission Dates and Times

4. Intergovernmental Review

5. Funding Restrictions

Section V. Application Review Information

1. Criteria

2. Review and Selection Process

3. Anticipated Award Date

Section VI. Award Administration Information

1. Award Notices

2. Administrative and National Policy Requirements

3. Reporting Requirements

Section VII. Agency Contacts

Section VIII. Other Information

1. Background Information

2. Healthy People 2010

3. Definitions

Section I. Funding Opportunity Description

Authority: This program is authorized under 42 U.S.C. 300u-6, section 1707 of the Public Health Service Act, as amended.

1. Purpose

The purpose of the Community Partnerships to End Health Disparities Demonstration Grant Program is to improve the health status of targeted minority populations (see definition of minority populations in Section VIII.3 of this announcement) by eliminating disparities. Through this FY 2007 announcement, the OMH is continuing to promote the utilization of community partnerships with locally grounded, grassroots organizations to develop and/or implement promising practices and model programs targeting minority communities that focus on: Health education promotion, disease risk reduction and increased access to and utilization of preventive health care and treatment services. Support will be provided to projects that emphasize prevention, one of the HHS priorities. The risks of many diseases and health conditions are reduced through preventative actions.

2. OMH Expectations

It is intended that the Community Partnerships Program will result in:

• Increased awareness of risk factors, and health promoting behaviors;

• Reduction in high-risk behaviors; and

• Improved access to health care for hardly reached minority populations.

3. Applicant Project Results

Applicants must identify 3 of the 5 following anticipated project results that are consistent with the Community Partnerships Program overall and OMH expectations:

• Increasing awareness of health disparities;

• Strengthening leadership at all levels for addressing health disparities;

• Improving patient-provider interaction;

• Improving cultural and linguistic competency; and/or

• Improving coordination and utilization of research and outcome evaluations.

The outcomes of these projects will be used to develop other national efforts to address health disparities among racial and ethnic minority populations.

4. Project Requirements

Each applicant under the Community Partnership Program must:

• Implement the project using a collaborative partnership arrangement of community-based organizations that will coordinate outreach, screening and education efforts and provide referrals and follow-up for treatment. The partnership must have the capacity to:

• Plan and coordinate services which reduce existing sociocultural and/or linguistic barriers to health care; and

• Carry out screening, outreach, education, and enabling services to ensure that clients follow-up with treatment and treatment referrals.

• Identify problems such as gaps in services or issues, such as access to health care, affecting the targeted health area to be addressed by the proposed project.

• Identify existing resources in the targeted health area which will be linked to the proposed project.

• Ensure that health promotion and education outreach activities are linguistically, culturally and age appropriate.

• Identify 3 of the 5 anticipated applicant project results for the project (listed above).

• Address at least 1, but no more than 3 of the identified health areas (see Section 5 below).

5. Health Areas to be Addressed

The activities and interventions implemented under Community Partnerships Program may target the racial and ethnic disparities in 1 but no more than 3 of the following ten (10) health areas:

• Asthma (among children and adolescents aged 1 to 19)

• Cancer

• Diabetes

• Heart Disease & Stroke

• Hepatitis B

• HIV

• Immunization (adult and child)

• Infant Mortality

• Mental Health

• Obesity & Overweight (among children and adolescents aged 1 to 19)

Section II. Award Information

Estimated Funds Available for Competition: $5,850,000 in FY 2007 (Grant awards are subject to the availability of funds.)

Anticipated Number of Awards: 23-29.

Range of Awards: $200,000 to $250,000 per year.

Anticipated Start Date: September 1, 2007.

Period of Performance: 3 Years (September 1, 2007 to August 31, 2010).

Budget Period Length: 12 months.

Type of Award: Grant.

Type of Application Accepted: New, Competing Continuation.

Section III. Eligibility Information

1. Eligible Applicants

To qualify for funding, an applicant must:

• Be a private nonprofit, community-based, minority-serving organization which addresses health or human services (see definitions); or be a public (local or tribal government) community-based organization which addresses health or human services; and

• Represent a collaborative partnership, consisting of at least three discrete organizations, that includes:

—A community-based, minority-serving organization (applicant);

—A health care facility (e.g., community health center, migrant health center, health department or medical center); and

—Another community entity (e.g., social service agency, business entity, educational institution, or civic association).

The partnership must be documented through a single signed Memorandum of Agreement (MOA) between the community-based minority serving organization (applicant), the health care facility and the other community entity. Each member of the partnership must have a specific, significant role in conducting the proposed project. The MOA must specify in detail the roles and resources that each entity will bring to the project, and the terms of the agreement. The MOA must cover the entire project period. The MOA must be signed by individuals with the authority to obligate the organization (e.g., president, chief executive officer, executive director).

Other entities that meet the definition of private non-profit community-based, minority-serving organization and the above criteria that are eligible to apply are:

• Faith-based organizations.

• Tribal organizations.

• Local affiliates of national, state-wide, or regional organizations.

National, state-wide, and regional organizations may not apply for these grants. As the focus of the program is at the local, grassroots level, OMH is looking for entities that have ties to the local community. National, state-wide, and regional organizations operate on a broader scale and are not as likely to effectively access the targeted minority population in the specific, local neighborhood and communities.

The organization submitting the application will:

• Serve as the lead agency for the project, responsible for its implementation and management; and

• Serve as the fiscal agent for the Federal grant awarded.

2. Cost Sharing or Matching

Matching funds are not required for the Community Partnerships Program.

3. Other

Organizations applying for funds under the Community Partnerships Program must submit documentation of nonprofit status with their applications. If documentation is not provided, the application will be considered non-responsive and will not be entered into the review process. The organization will be notified that the application did not meet the submission requirements.

Any of the following serves as acceptable proof of nonprofit status:

• A reference to the applicant organization's listing in the Internal Revenue Service's (IRS) most recent list of tax-exempt organizations described in section 501(c)(3) of the IRS Code.

• A copy of a currently valid IRS tax exemption certificate.

• A statement from a State taxing body, State Attorney General, or other appropriate State official certifying that the applicant organization has a nonprofit status and that none of the net earnings accrue to any private shareholders or individuals.

• A certified copy of the organization's certificate of incorporation or similar document that clearly establishes nonprofit status.

For local, nonprofit affiliates of state or national organizations, a statement signed by the parent organization indicating that the applicant organization is a local nonprofit affiliate must be provided in addition to any one of the above acceptable proof of nonprofit status.

If funding is requested in an amount greater than the ceiling of the award range, the application will be considered non-responsive and will not be entered into the review process. The application will be returned with notification that it did not meet the submission requirements.

Applications that are not complete or that do not conform to or address the criteria of this announcement will be considered non-responsive and will not be entered into the review process. The application will be returned with notification that it did not meet the submission requirements.

An organization may submit no more than one application to the Community Partnerships Program. Organizations submitting more than one proposal for this grant program will be deemed ineligible. The multiple proposals from the same organization will be returned without comment.

Organizations are not eligible to receive funding from more than one OMH grant program to carry out the same project and/or activities.

Section IV.Application and Submission Information

1. Address To Request Application Kit

Application kits for the Community Partnerships to Eliminate Health Disparities Demonstration Grant Program may be obtained by accessing Grants.gov at http://www.grants.gov or the GrantSolutions system at http://www.grantsolutions.gov. To obtain a hard copy of the application kit for this grant program, contact WilDon Solutions at 1-888-203-6161. Applicants may also fax a written request to WilDon Solutions at (703) 351-1138 or e-mail the request to OPHSgrantinfo@teamwildon.com. Applications must be prepared using Form OPHS-1, which can be obtained at the Web sites noted above.

2. Content and Form of Application Submission

A. Application and Submission

Applicants must use Grant Application Form OPHS-1 and complete the Face Page/Cover Page (SF 424), Checklist, and Budget Information Forms for Non-Construction Programs (SF 424A). In addition, the application must contain a project narrative. The project narrative (including summary and appendices) is limited to 75 pages double-spaced. For those organizations that previously received funding under the OMH-supported Community Programs to Improve Minority Health, in addition to the project narrative, you must attach a report on that program and its results. This report is limited to 15 pages double-spaced, which do not count against the project narrative page limitation.

The narrative description of the project must contain the following, in the order presented:

• Table of Contents.

• Project Summary (Overview): Briefly describe key aspects of the Background, Objectives, Program Plan, and Evaluation Plan. The summary is limited to 3 pages.

• Program Narrative

• Background:

—Statement of Need: Identify which of the health issue areas (up to 3) are being addressed. Describe and document, with data, demographic information on the targeted local geographic area, and the significance or prevalence of health problem(s) or issue(s) affecting the local target minority group(s). Describe the local minority group(s) targeted by the project (e.g., race/ethnicity, age, gender, educational level/income).

—Experience: Describe the applicant organization's background, and the background/experience of all coalition member organizations. Provide a rationale for inclusion of the coalition member organizations in the project. Describe any similar projects implemented to work with the targeted population and the results of those projects. (For those institutions that previously received funding under the OMH-supported Community Programs to Improve Minority Health, you must attach a report on that specific project and its results.)

—Discuss the applicant organization's experience in managing projects/activities, especially those targeting the population to be served. Indicate where the project will be located within the applicant organization's structure and the reporting channels. Provide a chart of the proposed project's organizational structure, showing who will report to whom. Describe how the partner organizations will interface with the applicant organization.

• Objectives: Provide objectives stated in measurable terms including baseline data, improvement targets, and time frames for achievement for the three-year project period. Explain how the state objectives relate to the expected results of the project

• Program Plan: Provide a plan which clearly describes how the project will be carried out. Describe specific activities and strategies planned to achieve each objective. For each activity, describe how, when, where, by whom, and for whom the activity will be conducted. Include the role of each coalition member organization. Provide a description of the proposed program staff, including resumes and job descriptions for key staff, qualifications and responsibilities of each staff member, and percent of time each will commit to the project. Provide a description of duties for any proposed consultants. Describe any products to be developed by the project. Provide a time line for each year of the three-year project period.

• Evaluation Plan: Delineate how program activities will be evaluated. The evaluation plan must clearly articulate how the project will be evaluated to determine if the intended results have been achieved. The evaluation plan must describe, for all funded activities:

—Intended results (i.e., impacts and outcomes);

—how impacts and outcomes will be measured (i.e. what indicators or measures will be used to monitor and measure progress toward achieving project results);

—methods for collecting and analyzing data on measures;

—evaluation methods that will be used to assess impacts and outcomes;

—evaluation expertise that will be available for this purpose;

—how results are expected to contribute to the objectives of the Program as a whole, and Healthy People 2010 goals and objectives; and

—the potential for replicating the evaluation methods for similar efforts.

Discuss plans and describe the vehicle (e.g., manual, CD) that will be used to document the steps which others may follow to replicate the proposed project in similar communities. Describe plans for disseminating project results to other communities.

• Appendices: Include MOAs and other relevant information in this section.

If required, attach a report on the project and outcomes supported under the Community Programs to Improve Minority Health (does not count against page limitation).

In addition to the project narrative, the application must contain a detailed budget justification which includes a narrative explanation and indicates the computation of expenditures for each year for which grant support is requested. The budget request must include funds for key project staff to attend an annual OMH grantee meeting. (The budget justification does not count toward the page limitation.)

B. Data Universal Numbering System number (DUNS)

Applications must have a Dun & Bradstreet (D&B) Data Universal Numbering System number as the universal identifier when applying for Federal grants. The D&B number can be obtained by calling (866) 705-5711 or through the Web site at http://www.dnb.com/us/.

3. Submission Dates and Times

To be considered for review, applications must be received by the Office of Public Health and Science, Office of Grants Management, c/o WilDon Solutions, by 5 p.m. Eastern Time on July 11, 2007. Applications will be considered as meeting the deadline if they are received on or before the deadline date. The application due date requirement in this announcement supercedes the instructions in the OPHS-1 form.

Submission Mechanisms

The Office of Public Health and Science (OPHS) provides multiple mechanisms for the submission of applications, as described in the following sections. Applicants will receive notification via mail from the OPHS Office of Grants Management confirming the receipt of applications submitted using any of these mechanisms. Applications submitted to the OPHS Office of Grants Management after the deadlines described below will not be accepted for review. Applications which do not conform to the requirements of the grant announcement will not be accepted for review and will be returned to the applicant.

While applications are accepted in hard copy, the use of the electronic application submission capabilities provided by the Grants.gov and GrantSolutions.gov systems is encouraged. Applications may only be submitted electronically via the electronic submission mechanisms specified below. Any applications submitted via any other means of electronic communication, including facsimile or electronic mail, will not be accepted for review.

In order to apply for new funding opportunities which are open to the public for competition, you may access the Grants.gov Web site portal. All OPHS funding opportunities and application kits are made available on Grants.gov. If your organization has/had a grantee business relationship with a grant program serviced by the OPHS Office of Grants Management, and you are applying as part of ongoing grantee related activities, please access GrantSolutions.gov.

Electronic grant application submissions must be submitted no later than 5 p.m. Eastern Time on the deadline date specified in the DATES section of the announcement using one of the electronic submission mechanisms specified below. All required hardcopy original signatures and mail-in items must be received by the OPHS Office of Grants Management, c/o WilDon Solutions, no later than 5 p.m. Eastern Time on the next business day after the deadline date specified in the DATES section of the announcement.

Applications will not be considered valid until all electronic application components, hardcopy original signatures, and mail-in items are received by the OPHS Office of Grants Management according to the deadlines specified above. Application submissions that do not adhere to the due date requirements will be considered late and will be deemed ineligible. Applicants are encouraged to initiate electronic applications early in the application development process, and to submit early on the due date or before. This will aid in addressing any problems with submissions prior to the application deadline.

Electronic Submissions via the Grants.gov Web site Portal

The Grants.gov Web site Portal provides organizations with the ability to submit applications for OPHS grant opportunities. Organizations must successfully complete the necessary registration processes in order to submit an application. Information about this system is available on the Grants.gov Web site, http://www.grants.gov.

In addition to electronically submitted materials, applicants may be required to submit hard copy signatures for certain Program related forms, or original materials as required by the announcement. It is imperative that the applicant review both the grant announcement, as well as the application guidance provided within the Grants.gov application package, to determine such requirements. Any required hard copy materials, or documents that require a signature, must be submitted separately via mail to the OPHS Office of Grants Management, c/o WilDon Solutions, and if required, must contain the original signature of an individual authorized to act for the applicant agency and the obligations imposed by the terms and conditions of the grant award. When submitting the required forms, do not send the entire application. Complete hard copy applications submitted after the electronic submission will not be considered for review.

Electronic applications submitted via the Grants.gov Web site Portal must contain all completed online forms required by the application kit, the Program Narrative, Budget Narrative and any appendices or exhibits. All required mail-in items must received by the due date requirements specified above. Mail-In items may only include publications, resumes, or organizational documentation. When submitting the required forms, do not send the entire application. Complete hard copy applications submitted after the electronic submission will not be considered for review.

Upon completion of a successful electronic application submission via the Grants.gov Web site Portal, the applicant will be provided with a confirmation page from Grants.gov indicating the date and time (Eastern Time) of the electronic application submission, as well as the Grants.gov Receipt Number. It is critical that the applicant print and retain this confirmation for their records, as well as a copy of the entire application package.

All applications submitted via the Grants.gov Web site Portal will be validated by Grants.gov. Any applications deemed “Invalid” by the Grants.gov Web site Portal will not be transferred to the GrantSolutions system, and OPHS has no responsibility for any application that is not validated and transferred to OPHS from the Grants.gov Web site Portal. Grants.gov will notify the applicant regarding the application validation status. Once the application is successfully validated by the Grants.gov Web site Portal, applicants should immediately mail all required hard copy materials to the OPHS Office of Grants Management, c/o WilDon Solutions, to be received by the deadlines specified above. It is critical that the applicant clearly identify the Organization name and Grants.gov Application Receipt Number on all hard copy materials.

Once the application is validated by Grants.gov, it will be electronically transferred to the GrantSolutions system for processing. Upon receipt of both the electronic application from the Grants.gov Web site Portal, and the required hardcopy mail-in items, applicants will receive notification via mail from the OPHS Office of Grants Management confirming the receipt of the application submitted using the Grants.gov Web site Portal.

Applicants should contact Grants.gov regarding any questions or concerns regarding the electronic application process conducted through the Grants.gov Web site Portal.

Electronic Submissions via the GrantSolutions System

OPHS is a managing partner of the GrantSolutions.gov system. GrantSolutions is a full life-cycle grants management system managed by the Administration for Children and Families, Department of Health and Human Services (HHS), and is designated by the Office of Management and Budget (OMB) as one of the three Government-wide grants management systems under the Grants Management Line of Business initiative (GMLoB). OPHS uses GrantSolutions for the electronic processing of all grant applications, as well as the electronic management of its entire Grant portfolio.

When submitting applications via the GrantSolutions system, applicants are required to submit a hard copy of the application face page (Standard Form 424) with the original signature of an individual authorized to act for the applicant agency and assume the obligations imposed by the terms and conditions of the grant award. If required, applicants will also need to submit a hard copy of the Standard Form LLL and/or certain Program related forms (e.g., Program Certifications) with the original signature of an individual authorized to act for the applicant agency. When submitting the required forms, do not send the entire application. Complete hard copy applications submitted after the electronic submission will not be considered for review.

Electronic applications submitted via the GrantSolutions system must contain all completed online forms required by the application kit, the Program Narrative, Budget Narrative and any appendices or exhibits. The applicant may identify specific mail-in items to be sent to the Office of Grants Management separate from the electronic submission; however these mail-in items must be entered on the GrantSolutions Application Checklist at the time of electronic submission, and must be received by the due date requirements specified above. Mail-In items may only include publications, resumes, or organizational documentation. When submitting the required forms, do not send the entire application. Complete hard copy applications submitted after the electronic submission will not be considered for review.

Upon completion of a successful electronic application submission, the GrantSolutions system will provide the applicant with a confirmation page indicating the date and time (Eastern Time) of the electronic application submission. This confirmation page will also provide a listing of all items that constitute the final application submission including all electronic application components, required hardcopy original signatures, and mail-in items, as well as the mailing address of the OPHS Office of Grants Management where all required hard copy materials must be submitted.

As items are received by the OPHS Office of Grants Management, the electronic application status will be updated to reflect the receipt of mail-in items. It is recommended that the applicant monitor the status of their application in the GrantSolutions system to ensure that all signatures and mail-in items are received.

Mailed or Hand-Delivered Hard Copy Applications

Applicants who submit applications in hard copy (via mail or hand-delivered) are required to submit an original and two copies of the application. The original application must be signed by an individual authorized to act for the applicant agency or organization and to assume for the organization the obligations imposed by the terms and conditions of the grant award. Mailed or hand-delivered applications will be considered as meeting the deadline if they are received by the OPHS Office of Grant Management, c/o WilDon Solutions, on or before 5 p.m. Eastern Time on the deadline date specified in the DATES section of the announcement. The application deadline date requirement specified in this announcement supersedes the instructions in the OPHS-1. Applications that do not meet the deadline will be returned to the applicant unread.

4. Intergovernmental Review

The Community Partnerships Program is subject to requirements of Executive Order 12372 which allows States the options of setting up a system for reviewing applications from within their States for assistance under certain Federal programs. The application kits available under this notice will contain a list of States which have chosen to set up a review system and will include a State Single Point of Contact (SPOC) in the State for review. The SPOC list is also available on the Internet at the following address: http://www.whitehouse.gov/omb/grants/spoc.html. Applicants (other than federally recognized Indian tribes) should contact their SPOC as early as possible to alert them to the prospective applications and receive any necessary instructions on the State process. The due date for State process recommendations is 60 days after the application deadlines established by the OPHS Grants Management Officer. The OMH does not guarantee that it will accommodate or explain its responses to State process recommendations received after that date. (See “Intergovernmental Review of Federal Programs,” Executive Order 12372, and 45 CFR Part 100 for a description of the review process and requirements.)

The Community Partnerships Program is subject to Public Health Systems Reporting Requirements. Under these requirements, community-based non-governmental applicants must prepare and submit a Public Health System Impact Statement (PHSIS). The PHSIS is intended to provide information to State and local officials to keep them apprised of proposed health services grant applications submitted by community-based organizations within their jurisdictions.

Community-based non-governmental applicants are required to submit, no later than the Federal due date for receipt of the application, the following information to the head of the appropriate State or local health agencies in the area(s) to be impacted: (a) A copy of the face page of the application (SF 424), and (b) a summary of the project (PHSIS), not to exceed one page, which provides: (1) A description of the population to be served, (2) a summary of the services to be provided, and (3) a description of the coordination planned with the appropriate State or local health agencies. Copies of the letter forwarding the PHSIS to these authorities must be contained in the application materials submitted to the OPHS.

5. Funding Restrictions

Budget Request: If funding is requested in an amount greater than the ceiling of the award range, the application will be considered non-responsive and will not be entered into the review process. The application will be returned with notification that it did not meet the submission requirements.

Grants funds may be used to cover costs of:

• Personnel.

• Consultants.

• Equipment.

• Supplies (including screening and outreach supplies).

• Grant-related travel (domestic only), including attendance at an annual OMH grantee meeting.

• Other grant-related costs.

Grants funds may not be used for:

• Building alterations or renovations.

• Construction.

• Fund raising activities.

• Job training.

• Medical care, treatment or therapy.

• Political education and lobbying.

• Research studies involving human subjects.

• Vocational rehabilitation.

Guidance for completing the budget can be found in the Program Guidelines, which are included with the complete application kit.

Section V. Application Review Information

1. Criteria

The technical review of the Community Partnerships Program applications will consider the following four generic factors listed, in descending order of weight.

A. Factor 1: Program Plan (40%)

—Appropriateness and merit of proposed approach and specific activities for each objective.

—Logic and sequencing of the planned approaches as they relate to the statement of need and to the objectives.

—Soundness of the established coalition and member roles in the program.

—Qualifications and appropriateness of proposed staff or requirements for “to be hired” staff and consultants.

—Proposed staff level of effort.

—Appropriateness of defined roles including staff reporting channels and that of any proposed consultants.

B. Factor 2: Evaluation Plan (25%)

—The degree to which intended results are appropriate for the objectives of the Community Partnerships Program overall, stated objectives of the proposed project and proposed activities.

—Appropriateness of the proposed methods for data collection (including demographic data to be collected on project participants), analysis and reporting.

—Suitability of process, outcome, and impact measures.

—Clarity of the intent and plans to assess and document progress towards achieving objectives, planned activities, and intended outcomes.

—Potential for the proposed project to impact the health status of the target population(s) relative to the health areas addressed.

—Soundness of the plan to document the project for replicability in similar communities.

—Soundness of the plan to disseminate project results.

C. Factor 3: Background (20%)

—Demonstrated knowledge of the problem at the local level.

—Significance and prevalence of targeted health issues in the proposed community and target population(s).

—Extent to which the applicant demonstrates access to the target community(ies), and whether it is well positioned and accepted within the community(ies) to be served.

—Extent and documented outcome of past efforts and activities with the target population.

—Applicant's capability to manage and evaluate the project as determined by:

• The applicant organization's experience in managing project/activities involving the target population.

• The applicant's organizational structure and proposed project organizational structure.

• Clear lines of authority among and between coalition member organizations.

—If applicable, the extent and documented outcome(s) of activities conducted under the OMH-supported Community Programs to Improve Minority Health included in the required progress report.

D. Factor 4: Objectives (15%)

—Merit of the objectives.

—Relevance to Healthy People 2010 and National Partnership for Action objectives.

—Relevance to the Community Partnerships Program purpose and expectations, and to the stated problem to be addressed by the proposed project.

—Degree to which the objectives are stated in measurable terms.

—Attainability of the objectives in the stated time frames.

2. Review and Selection Process

Accepted Community Partnerships Program applications will be reviewed for technical merit in accordance with PHS policies. Applications will be evaluated by an Objective Review Committee (ORC). Committee members are chosen for their expertise in minority health and health disparities, and their understanding of the unique health problems and related issues confronted by the racial and ethnic minority populations in the United States. Funding decisions will be determined by the Deputy Assistant Secretary for Minority Health who will take under consideration:

• The recommendations and ratings of the ORC.

• Geographic distribution of applicants.

• A balanced distribution of populations to be served.

• The health areas addressed.

3. Anticipated Award Date

September 1, 2007.

Section VI. Award Administration Information

1. Award Notices

Successful applicants will receive a notification letter from the Deputy Assistant Secretary for Minority Health and a Notice of Grant Award (NGA), signed by the OPHS Grants Management Officer. The NGA shall be the only binding, authorizing document between the recipient and the Office of Minority Health. Unsuccessful applicants will receive notification from OPHS.

2. Administrative and National Policy Requirements

In accepting this award, the grantee stipulates that the award and any activities thereunder are subject to all provisions of 45 CFR parts 74 and 92, currently in effect or implemented during the period of the grant.

The DHHS Appropriations Act requires that, when issuing statements, press releases, requests for proposals, bid solicitations, and other documents describing projects or programs funded in whole or in part with Federal money, all grantees shall clearly state the percentage and dollar amount of the total costs of the program or project which will be financed with Federal money and the percentage and dollar amount of the total costs of the project or program that will be financed by non-governmental sources.

3. Reporting Requirements

A successful applicant under this notice will submit: (1) Semi-annual progress reports; (2) an Annual Financial Status Report; and (3) a final progress report and Financial Status Report in the format established by the OMH, in accordance with provisions of the general regulations which apply under “Monitoring and Reporting Program Performance,” 45 CFR part 74.51-74.52, with the exception of State and local governments to which 45 CFR part 92, Subpart C reporting requirements apply.

Uniform Data Set: The Uniform Data Set (UDS) is a Web-based system used by OMH grantees to electronically report progress data to OMH. It allows OMH to more clearly and systematically link grant activities to OMH-wide goals and objectives, and document programming impacts and results. All OMH grantees are required to report program information via the UDS (http://www.dsgonline.com/omh/uds). Training will be provided to all new grantees on the use of the UDS system during the annual grantee meeting.

Grantees will be informed of the progress report due dates and means of submission. Instructions and report format will be provided prior to the required due date. The Annual Financial Status Report is due no later than 90 days after the close of each budget period. The final progress report and Financial Status Report are due 90 days after the end of the project period. Instructions and due dates will be provided prior to required submission.

Section VII. Agency Contacts

For application kits, submission of applications, and information on budget and business aspects of the application, please contact: WilDon Solutions, Office of Grants Management Operations Center, 1515 Wilson Blvd., Third Floor Suite 310, Arlington, VA 22209 at 1-888-203-6161, e-mail OPHSgrantinfo@teamwildon.com, or fax 703-351-1138.

For questions related to the Community Programs to Improve Minority Health or assistance in preparing a grant proposal, contact Ms. Sonsiere Cobb-Souza, Acting Director, Division of Program Operations, Office of Minority Health, Tower Building, Suite 600, 1101 Wootton Parkway, Rockville, MD 20852. Ms. Cobb-Souza can be reached by telephone at (240) 453-8444; or by e-mail at sonsiere.cobb-souza@hhs.gov.

For additional technical assistance, contact the OMH Regional Minority Health Consultant for your region listed in your grant application kit.

For health information, call the OMH Resource Center (OMHRC) at 1-800-444-6472.

Section VIII. Other Information

1. Background Information

Many aspects of health in the U.S. have improved; however, significant racial and ethnic disparities remain. The prevalence of overweight in 2003-04 was significantly higher among Hispanic and Black children than white children, and approximately 45 percent of Black and 37 percent of Hispanic adults were obese compared to 30 percent of whites.³ American Indians/Alaska Natives are 2.2 times as likely to have diabetes than whites, and Blacks are 1.8 times as likely to have the disease.⁴ The rates of hepatitis B have declined among all racial ethnic groups; however, rates were highest among non-Hispanic Blacks in 2004.⁵ According to data from the CDC, 50 percent of adults and adolescents diagnosed with HIV/AIDS in 2004 were Black (13 percent of population), 18 percent were Hispanic (12.5 percent of population), and 1 percent were American Indian/Alaska Native (.7 percent of population). In 2005, 18.1 percent of Native American/Alaska Natives reported frequent mental distress (14 or more mentally unhealthy days) compared to 9.6 percent of whites.⁶ Higher percentages of Blacks (11.8) and Hispanics (10.2) also reported frequent mental distress than whites. American Indians/Alaska Natives also had the highest prevalence of asthma in 2002, when 11.6 percent of that population reported having asthma compared to 7.6 percent of whites.⁷

³ 2004 Fact Sheet—Obesity Still a Major Problem, New Data Show, NCHS, Hyattsville, MD 2006.

⁴ American Diabetes Association, Web site, November 27, 2006 http://www.diabetes.org/diabetes-statistics/prevalance.jsp.

⁵ Centers for Disease Control and Prevention. Hepatitis Surveillance Report No. 61. Atlanta, GA: U.S. Department of Health and Human Services, Centers for Disease Control and Prevention, 2006.

⁶ Health Related Quality of Life Survey, CDC, National Center for Chronic Disease Prevention and Health Promotion, 2006.

⁷ Asthma Prevalence and Control Characteristics by Race/Ethnicity—United States, 2002, MMWR Weekly, February 27, 2004, CDC.

In 2002, American Indian/Alaska Native women had the lowest cancer incidence rate, yet the third highest cancer death rate. Breast cancer was the leading cause of cancer death among Hispanic women. Black men and women had the highest cancer death rates for all cancers among all races.⁸ Heart disease is the leading cause of death for men and women in the U.S.; the 2002 age-adjusted death rates for diseases of the heart were 30 percent higher among Blacks than whites. The mortality rates for infants of Black (13.6), American Indian/Alaska Native (8.7), and Puerto Rican (8.2) mothers all exceeded the rate for infants of white mothers (5.7) in 2003.⁹

⁸ United States Cancer Statistics: 1999-2002 Incidence and Mortality Web-based Report, U.S. Cancer Statistics Working Group, CDC and Naitonal Cancer Institute, Atlanta, GA 2005.

⁹ Health United States, 2006.

2. Healthy People 2010

The Public Health Service (PHS) is committed to achieving the health promoting and disease prevention objectives of Healthy People 2010, a PHS-led national activity announced in January 2000 to eliminate health disparities and improve years and quality of life. More information may be found on the Healthy People 2010 Web site: http://www.healthypeople.gov/ and copies of the documents may be downloaded. Copies of the Healthy People 2010: Volumes I and II can be purchased by calling (202) 512-1800 (cost $70 for printed version; $20 for CD-ROM). Another reference is the Healthy People 2010 Final Review-2001.

For one free copy of the Healthy People 2010, contact: The National Center for Health Statistics, Division of Data Services, 3311 Toledo Road, Hyattsville, MD 20782, or by telephone at (301) 458-4636. Ask for HHS Publication No. (PHS) 99-1256. This document may also be downloaded from: http://www.healthypeople.gov.

3. Definitions

For purposes of this announcement, the following definitions apply:

Community-Based Organizations—Private, nonprofit organizations and public organizations (local or tribal governments) that are representative of communities or significant segments of communities where the control and decisionmaking powers are located at the community level.

Community-Based Minority-Serving Organization—A community-based organization that has a demonstrated expertise and experience in serving racial/ethnic minority populations (See definition of Minority Populations below.)

Community Partnership—At least 3 discrete organizations and institutions in a given community which work together on specific community concerns, and seek resolution of those concerns through formalized relationship documented by written memoranda of understanding/agreement signed by individuals with the authority to obligate the organizations (e.g., chief executive officer, executive director, president/chancellor) is required.

Health Care Facility—A private nonprofit or public facility that has an established record for providing comprehensive health care services to a targeted, racial/ethnic minority community.

A health care facility may be a hospital, outpatient medical facility, community health center, migrant health center, or a mental health center. Facilities providing only screening and referral activities are not included in this definition.

Intervention—A combination of services designed to alter or modify a condition or outcome, or to change behavior to reduce the likelihood of a preventable health problem occurring or progressing further. Services include:

• Clinical prevention services (e.g., blood pressure screening);

• information dissemination;

• environmental modifications;

• educational activities; and

• coordinated networking activities among health and human service related programs (e.g., referral for child care services, job placement, literacy programs).

Memorandum of Agreement (MOA)—A single document signed by authorized representatives of each community partnership member organization which details the roles and resources each entity will provide for the project and the terms of the agreement (must cover the entire project period).

Minority Populations—American Indian or Alaska Native, Asian, Black or African American, Hispanic or Latino, and Native Hawaiian or Other Pacific Islander. (42 U.S.C. 300u-6, section 1707 of the Public Health Service Act, as amended.)

Nonprofit Organizations—Corporations or associations, no part of whose net earnings may lawfully inure to the benefit of any private shareholder or individual. Proof of nonprofit status must be submitted by private nonprofit organizations with the application or, if previously filed with PHS, the applicant must state where and when the proof was submitted. (See III, 3. Other, for acceptable evidence of nonprofit status.)

Sociocultural Barriers—Policies, practices, behaviors and beliefs that create obstacles to health care access and service delivery. Examples of sociocultural barriers include:

• Cultural differences between individuals and institutions.

• Cultural differences of beliefs about health and illness.

• Customs and lifestyles.

• Cultural differences in languages or nonverbal communication styles.

Dated: June 5, 2007.
Garth N. Graham,
Deputy Assistant Secretary for Minority Health.

[FR Doc. 07-2894 Filed 6-08-07; 8:45 am]

BILLING CODE 4150-29-P